DEPARTMENT OF COMMERCE

International Trade Administration

[A-791-815]

Notice of Antidumping Duty Order: Ferrovanadium from the Republic of South Africa

AGENCY: Import Administration, International Trade Administration, Department of Commerce.

ACTION: Notice of Antidumping Duty Order: Ferrovanadium from the Republic of South Africa.

EFFECTIVE DATE: January 28, 2003.

FOR FURTHER INFORMATION CONTACT: Mark Manning or Crystal Scherr Crittenden; AD/CVD Enforcement, Office 4, Group II, Import Administration, International Trade Administration, U.S. Department of Commerce, 14th Street and Constitution Avenue NW, Washington, DC 20230; telephone: (202) 482-5253 or (202) 482-0989, respectively.

SUPPLEMENTARY INFORMATION:

Scope of the Order

The scope of this order covers all ferrovanadium regardless of grade, chemistry, form, shape, or size. Ferrovanadium is an alloy of iron and vanadium that is used chiefly as an additive in the manufacture of steel. The merchandise is commercially and scientifically identified as vanadium. It specifically excludes vanadium additives other than ferrovanadium, such as nitrided vanadium, vanadium-aluminum master alloys, vanadium chemicals, vanadium oxides, vanadium waste and scrap, and vanadium-bearing raw materials such as slag, boiler residues and fly ash. Merchandise under the following Harmonized Tariff Schedule of the United States (HTSUS) item numbers 2850.00.2000, 8112.40.3000, and 8112.40.6000 are specifically excluded. Ferrovanadium is classified under HTSUS item number 7202.92.00. Although the HTSUS item number is provided for convenience and Customs purposes, the Department's written description of the scope of this order remains dispositive.

Antidumping Duty Order

On January 13, 2003, in accordance with section 735(d) of Tariff Act of 1930, as amended (the Act), the International Trade Commission (the Commission) notified the Department of Commerce (the Department) of its final determination that an industry in the United States is materially injured by reason of less-than-fair-value imports of subject merchandise from South Africa, pursuant to section 735(b)(1)(A) of the Act. Therefore, in accordance with section 736(a)(1) of the Act, the Department will direct the U.S. Customs Service to assess, upon further advice by the Department, antidumping duties equal to the amount by which the normal value of the merchandise exceeds the U.S. price of the merchandise for all relevant entries of ferrovanadium from South Africa. For all producers and exporters, antidumping duties will be assessed on all unliquidated entries of subject merchandise that are entered, or withdrawn from warehouse, for consumption on or after July 8, 2002, the date on which the Department published its notice of affirmative preliminary determination in the Federal Register. See Notice of Preliminary Determination of Sales at Less Than Fair Value and Postponement of Final Determination: Ferrovanadium from the Republic of South Africa, 67 FR 45083 (July 8, 2002).

On or after the date of publication of this notice in the Federal Register, the U.S. Customs Service must require, at the same time as importers would normally deposit estimated duties, cash deposits for the subject merchandise equal to the estimated weighted-average dumping margins listed below. The “All Others” rate applies to all exporters of subject merchandise not specifically listed below.

Manufacturer/exporter | Margin ­(percent)
Highveld Steel and ­Vanadium Corporation, Ltd. | 116.00
Xstrata South Africa ­(Proprietary) Limited. | 116.00
All Others | 116.00

This notice constitutes the antidumping duty order with respect to ferrovanadium from the Republic of South Africa. Interested parties may contact the Department's Central Records Unit, Room B-099 of the main Commerce building, for copies of an updated list of antidumping duty orders currently in effect.

This order is issued and published in accordance with section 736(a) of the Act and 19 CFR 351.211.

Dated: January 21, 2003.
Faryar Shirzad,
Assistant Secretary for Import Administration.

[FR Doc. 03-1901 Filed 1-27-03; 8:45 am]

BILLING CODE 3510-DS-S